SECURITIES AND EXCHANGE COMMISSION

[File No. 500-1]

IVI Communications, Inc., Omnicity Corp., Precision Petroleum Corporation, PSB Group, Inc., Sustainable Power Corp., and Whitehall Jewelers Holdings, Inc. (n/k/a WJ Holdings Liquidating Company); Order of Suspension of Trading

March 20, 2014.

It appears to the Securities and Exchange Commission that there is a lack of current and accurate information concerning the securities of IVI Communications, Inc. because it has not filed any periodic reports since the period ended December 31, 2008.

It appears to the Securities and Exchange Commission that there is a lack of current and accurate information concerning the securities of Omnicity Corp. because it has not filed any periodic reports since the period ended January 31, 2011.

It appears to the Securities and Exchange Commission that there is a lack of current and accurate information concerning the securities of Precision Petroleum Corporation because it has not filed any periodic reports since the period ended June 30, 2011.

It appears to the Securities and Exchange Commission that there is a lack of current and accurate information concerning the securities of PSB Group, Inc. because it has not filed any periodic reports since the period ended September 30, 2010.

It appears to the Securities and Exchange Commission that there is a lack of current and accurate information concerning the securities of Sustainable Power Corp. because it has not filed any periodic reports since it registered its common stock under Exchange Act Section 12(g) pursuant to a Form 10-12G filed on February 12, 2009.

It appears to the Securities and Exchange Commission that there is a lack of current and accurate information concerning the securities of Whitehall Jewelers Holdings, Inc. (n/k/a WJ Holdings Liquidating Company) because it has not filed any periodic reports since the period ended February 2, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on March 20, 2014, through 11:59 p.m. EDT on April 2, 2014.

By the Commission.
Jill M. Peterson,
Assistant Secretary.

[FR Doc. 2014-06489 Filed 3-20-14; 4:15 pm]

BILLING CODE 8011-01-P